DEPARTMENT OF JUSTICE

Antitrust Division

Notice Pursuant to the National Cooperative Research and Production Act of 1993—Open Mobile Alliance

Notice is hereby given that, on July 8, 2014, pursuant to Section 6(a) of the National Cooperative Research and Production Act of 1993, 15 U.S.C. 4301 et seq. (“the Act”), Open Mobile Alliance (“OMA”) has filed written notifications simultaneously with the Attorney General and the Federal Trade Commission disclosing changes in its membership. The notifications were filed for the purpose of extending the Act's provisions limiting the recovery of antitrust plaintiffs to actual damages under specified circumstances. Specifically, ARM Ltd., San Jose, CA; CallUp Net Ltd., Rosh Haayin, INDIA; Cellebrite, Petah Tikva, ISRAEL; Cisco Systems Inc., San Jose, CA; EQUADIS S.A., Carouge, SWITZERLAND; Eway Miami Corp., Buenos Aires, ARGENTINA; Fidens Consulting, Southbury, CT; Friendly Technologies, Ramat-Gan, ISRAEL; General Dynamics Broadband UK, Chippenham, Wiltshire, UNITED KINGDOM; GS1 Canada, Toronto, Ontario, CANADA; GS1 France, Issy Les Moulinea, FRANCE; GS1 Global Office, Brussels, BELGIUM; GS1 Hungary, Budapest, HUNGARY; GS1 Japan, Minato-ku, Tokyo, JAPAN; Harris Corporation, Lynchburg, VA; Icare Institute, Sierre, SWITZERLAND; Images in Space Ltd., Takapuna, Auckland, NEW ZEALAND; InterDigital Communications, Inc., King of Prussia, PA; iYogi Inc., New York, NY; Kochar Infotech, Amritsa, INDIA; KWISA, Gangnam-gu, Seoul, REPUBLIC OF KOREA; Metaswitch Networks Ltd., Enfield, UNITED KINGDOM; Mobile Tornado Group PLC, Afek Park, ISRAEL; Motorola Solutions Inc., Schaumburg, IL; NextNav LLC, Sunnyvale, CA; Openwave Messaging Inc., Redwood City, CA; Saphety Level—Trusted Services S.A., Lisboa, PORTUGAL; Stream Communications, Glasgow, UNITED KINGDOM; Telular, Chicago, IL; Thales, Toulouse, FRANCE; T-Mobile USA, Inc., Bellevue, WA; Wistron Corporation, New Taipei City, TAIWAN; and Zeebric, Inc., Newport Beach, CA; have been added as parties to this venture.

Also, Acision, Dublin, IRELAND; Adaptive Mobile Security Ltd., Dublin, IRELAND; AePona Ltd., Belfast, UNITED KINGDOM; Andrew LLC, Ashburn, VA; AuthenTec, Inc., Melbourne, FL; Beijing Leadtone Wireless Ltd., Beijing, PEOPLE'S REPUBLIC OF CHINA; Birdstep Technology AB, Stockholm, SWEDEN; Capricode, Oulu, FINLAND; Celltick Technologies Ltd., Herzliya, ISRAEL; Cinterion Wireless Modules GmbH, Munich, GERMANY; Cloudmark, Inc., San Francisco, CA; Converlogic, Garches, FRANCE; CoreMedia, Hamburg, GERMANY; DKI Technology Inc., Young deungpo-gu, Seoul, REPUBLIC OF KOREA; Ecrio Inc., Cupertino, CA; HTC Corp., Taoyuan County, TAIWAN; Ikivo AB, Stockholm, SWEDEN; Industrial Technology Research Institute, Hsinchu, TAIWAN; InnoPath Software, Alviso, CA; Interop Technologies, Ft. Meyers, FL; InvisiTrack, Inc., Annapolis, MD; Kii Corporation, Tokyo, JAPAN; Layer 7 Technologies, Vancouver, British Columbia, CANADA; LG Uplus Corp., Seoul, REPUBLIC OF KOREA; License Management International, LLC, Morgan Hill, CA; MediaTek Inc., Hsin-Chu City, TAIWAN; Mobile Leader Inc., Seoul, REPUBLIC OF KOREA; Motorola Mobility LLC, Schaumburg, IL; Movenda SpA, Roma, ITALY; Nokia Siemens Networks, Muenchen, GERMANY; NTT Advanced Technology Corporation, Musashino-shi, Tokyo, JAPAN; NVIDIA Corp., Sofia Antipolis, FRANCE; Oberthur Technologies S.A., Nanteroie Cedex, FRANCE; One2Many, Deventek, THE NETHERLANDS; Oracle America, Inc., Palo Alto, CA; Sensinode Ltd., Oulu, FINLAND; Shenzhen Coolpad Technologies Co., Ltd., Nanshan, Shenzhen, PEOPLE'S REPUBLIC OF CHINA; Sicap, Koeniz, SWITZERLAND; SK Planet, Seoul, REPUBLIC OF KOREA; TCT Mobile Ltd., Shenzhen, PEOPLE'S REPUBLIC OF CHINA; Telecommunication Metrology Center of MIIT, Beijing, PEOPLE'S REPUBLIC OF CHINA; Telenor ASA, NORWAY; TeliaSonera AB, Nacka Strand, SWEDEN; UL VS Ltd., Basingstoke, Hampshire, UNITED KINGDOM; UltiMobile, LLC., Orlando, FL; US Cellular, Chicago, IL; Viaccess SA, Paris, FRANCE; Volantis Systems Ltd., Guildford, Surrey, UNITED KINGDOM; Vox Mobili, Paris, FRANCE; Websync, Yeosam-dong, Gangnam-gu, REPUBLIC OF KOREA; and Wireless Zeta Telecomunicaciones, S.L., Sanse, SPAIN; have withdrawn as parties to this venture.

The following members have changed their names: mformation Technologies Inc. to Mformation Software Technologies, Inc., Edison, NJ; and Research In Motion to BlackBerry, Waterloo, Ontario, CANADA.

No other changes have been made in either the membership or planned activity of the group research project. Membership in this group research project remains open, and OMA intends to file additional written notifications disclosing all changes in membership.

On March 18, 1998, OMA filed its original notification pursuant to Section 6(a) of the Act. The Department of Justice published a notice in the Federal Register pursuant to Section 6(b) of the Act on December 31, 1998 (63 FR 72333).

The last notification was filed with the Department on February 21, 2013. A notice was published in the Federal Register pursuant to Section 6(b) of the Act on March 21, 2013 (78 FR 17430).

Patricia A. Brink,
Director of Civil Enforcement, Antitrust Division.

[FR Doc. 2014-18762 Filed 8-7-14; 8:45 am]

BILLING CODE 4410-11-P